FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Barthco International, Inc. (NVO & OFF), 5101 South Broad Street, Philadelphia, PA 19112, Officers: Jack Bashkow, Assistant Vice President (QI), Patrick Moebel, President, Application Type: QI Change.

Ever Line Logistics Inc. (NVO & OFF), 147-35 Farmers Blvd., Suite 208, Jamaica, NY 11434, Officer: Caihong Yang, President (QI), Application Type: Name Change to Bona Logistics US Inc.

Global Container Line, Inc. dba Global Container Line (NVO & OFF), 18209 80th Avenue South, Suite A, Kent, WA 98032, Officers: Jeanne H. Sargent, Vice President (QI), James G. Smith, CFO, Application Type: QI Change.

Global Trade Associates, Inc. (OFF), 5 Mount Royal Avenue, Suite 150, Marlborough, MA 01752, Officers: Frank Navin, President (QI), Sandra Navin, Treasurer, Application Type: New OFF License.

Horizon Lines of Guam, LLC (NVO), 4064 Colony Road, Suite 200, Charlotte, NC 28211, Officers: Ricardo F. Rodriguez, President (QI), Michael T. Avara, Vice President, Application Type: QI Change.

J Z Cargo Logistic Corporation (NVO), 150 NW 96th Avenue, Apt. 204, Pembroke Pines, FL 33024, Officers: Joan S. Ziade, President (QI), Santiago Rameix, Vice President, Application Type: New NVO License.

Jolaco International Procurement Inc. (OFF), 2018 Park Row Drive, Suite 6765, Katy, TX 77449, Officers: Frederick D. Coker, President (QI), Amy M. Benya, Secretary, Application Type: New OFF License.

Malecon Shipping, Inc. (NVO), 2225 Adams Place, Bronx, NY 10457, Officer: Arisleyda Polanco, President (QI), Application Type: New NVO License.

Metro Box Cargo, LLC (NVO), 3447 Investment Blvd., Suite 6, Hayward, CA 94545, Officers: Ammabelle P. Bote, Member/Manager, Edgar T. Bote, Member/Manager, Application Type: New NVO License.

National Air Cargo, Inc. (NVO & OFF), 350 Windward Drive, Orchard Park, NY 14127, Officers: Marc A. Gonzales, Assistant Secretary (QI), Christopher J. Alf, President, Application Type: QI Change.

Norse Freight Forwarding, LLC (NVO & OFF), 130 Grandview Trace, Fayetteville, GA 30215, Officers: Johnny S. Flaten, Managing Member (QI), Robert S. Stamey, Member, Application Type: New NVO & OFF License.

Northwestern Shipping and Transportation Ltd (NVO & OFF), 606 Oriole Blvd., Suite 100G, Duncanville, TX 75116, Officers: Jackson Ehioguh, President (QI), Rosemary Ehioguh, Vice President, Application Type: New NVO & OFF License.

Overland Logistics LLC (NVO & OFF), 455 W. 100 N, Ephraim, UT 84627, Officers: Kyle S. Bailey, Member (QI), Jeremy Hallows, Member, Application Type: Add NVO Service.

Ray-Mont Logistics Corp. (NVO & OFF), 13619 E. 28th Avenue, Spokane Valley, WA 99216, Officers: Teri M. Zimmerman, Treasurer (QI), Charles Raymond, President, Application Type: Add NVO Services.

Viking Corporation dba The Viking Corporation Relocation and Logistics (NVO), 32 Estate Contant, St. Thomas, VI 00802, Officers: Berisford F. Lynch, President (QI), Joann F. Lynch, Vice President, Application Type: New NVO License.

V R Logistics Incorporated (NVO & OFF), 30 Sheryl Drive, Edison, NJ 08820, Officers: Govind (Gary) Bhagat, Vice President (QI), Vanita Bhagat, President, Application Type: Add Trade Name Yellow Shark Logistics.

By the Commission.
Dated: July 26, 2013.
Rachel E. Dickon.
Assistant Secretary.

[FR Doc. 2013-19106 Filed 8-7-13; 8:45 am]

BILLING CODE 6730-01-P